DEPARTMENT OF ENERGY

Federal Energy Regulatory Commission

Notice of Third Interstate Natural Gas Facility-Planning Seminar

January 11, 2001.

The Office of Energy Projects will hold the third in a series of public meetings around the country for the purposes of exploring and enhancing strategies for constructive public participation in the earliest stages of natural gas facility planing. This seminar will be held in Tampa, Florida on Thursday, February 15, 2001. We are inviting interstate natural gas companies; Federal, state and local agencies; landowners and non-governmental organizations with an interest in developing new ways of doing business to join us in this effort. We will discuss the facility planning process, not the merits of any pending or planned pipeline projects.

The staff of the Commission's Office of Energy Projects will give a briefing on the results of our first two seminars in Albany, NY and Chicago, IL. We will discuss problems that were identified and potential solutions that were offered in the seminars.

Join us as we continue to explore new strategies being employed by the natural gas industry, agencies, and citizens to learn about each others' concerns and to engage the public and agencies in participatory project design. Interactive discussions will be held with panelists from various Federal and state agencies, representatives from natural gas companies, and private landowners or citizen representatives who have had relevant experiences. There will be substantial opportunity for the sharing of experiences and knowledge during both the panel discussions and in the interactive “brainstorming” session. So, bring your ideas with you and prepare to share them.

The objectives of the meeting are:

• Build upon the discussions from the first two seminars in Albany, NY and Chicago, IL.

• Explore steps taken to identify the parties directly involved with and affected by natural gas facility siting and/or permitting, so they can work together and resolve issues.

• Explore the best avenues for involving people and agencies toward fostering settlements through creative issue resolution.

• To encourage the submission of filings with no or few contested issues in order to reduce the Commission's processing time.

• Discuss the potential benefits of an interstate natural gas pipeline project.

Note: One of our panels this time will focus on the potential benefits of pipelines from each parties' perspective.

We are building on what was learned at our prior meetings and continuing to work toward developing a toolbox of the best available techniques for increasing public involvement and developing solutions to issues during the pre-filing planning process. This will help to plan projects with less opposition that can achieve faster action from the Commission with less controversy and fewer conditions.

The meeting in Tampa, Florida will be held at the Holiday Inn City Centre, located in Tampa, Florida. The meeting is scheduled to start at 9:30 a.m. and finish at 4 p.m. A preliminary agenda and directions to the Holiday Inn City Centre are enclosed. Also, see attachment 2 regarding the selection of locations of future meetings.

If you plan to attend, please email our team at: gasoutreach@ferc.fed.us by February 6, 2001. Or, you can respond via facsimile to Pennie Lewis-Partee at 202-208-0353. Please include in the response the names, addresses, and telephone numbers of all attendees from your organization. We will send an acknowledgment of your request.

To help us enhance our panel discussions, please consider issues and/or questions you would like to have addressed at the meetings and email them to us. If you have any questions, you may contact any of the staff listed below:

Richard Hoffmann, 202/208-0066

Lauren O'Donnell, 202/208-0325

Jeff Shenot, 202/219-2178

Howard Wheeler, 202/208-2299

J. Mark Robinson,
Director, Division of Environmental & Engineering Review, Office of Energy Projects.

Attachments (2).

Agenda

3rd Interstate Natural Gas Facility Planning Seminar, Federal Energy Regulatory Commission, Holiday Inn City Centre, Tampa, Florida

February 15, 2001—9:30 a.m. to 4 p.m.

9:30 a.m.—Introductions

Welcome: Mark Robinson, Director, Division of Environmental & Engineering Review, Office of Energy Projects, FERC, Rich Hoffmann, Office of Energy Projects (OEP), FERC

9:45—The Pipeline Planning/Approval Process—Lauren O'Donnell, OEP, What's the role of FERC?

10:00—Summary of Comments from the Albany and Chicago Meeetings—Rich Hoffmann

10:30—Panel 1. Perspectives on Project Announcement, Route Planning, and How To Work Together—Howard Wheeler, OEP, Moderator.

[Discussion of factors re: announcement of the project, planning of the route, types of surveys needed; extent of disturbance, and who to tell. What are the needs of the various stakeholders?]

Representative from Duke Energy John Ryan, League of Environmental Organizations, Ken Huntington, Florida Department of Environmental Protection

[10-minute discussion by each panelist with interactive Q&A session with panelists and audience for remainder of Panel]

12:00—Lunch

1:00—Panel 2. What are the Benefits (real and potential) of a natural gas project and right-of-way?—Lauren O'Donnell, Moderator

[Discussion of the various types of benefits of a pipeline project to the company, the individual, local area, region and/or state. How to identify them, how to advertize them.]

Pal Mulieri, County Commissioner, Pasco County, FL, John Shafer, Enron, Citizen/NGO Representative

[10 minute discussion by each panelist with interactive Q&A session with panelists and audience for remainder of Panel]

2:00—Discussion by Kearns & West, Inc., on Stakeholder Involvement.—Ann Gunning

2:15—Brainstorming Session * * * OEP Staff will lend an all-participants discussion of issues regarding:

• How best to involve landowners and communities.

• How best to work with applicants and agencies;

• How to coordinate with multiple agencies/jurisdictions;

• How to get information on the need for a project; and

• How to describe workspace/right-of-way requirements.

3:55—Summary of the Day

Directions to: Holiday Inn City Centre [813-223-1351]

• Holiday Inn City Centre is located at 111 West Fortune Street, Tampa, FL 33602

• Take Interstate I-275 to exit #25—Ashley Street; Keep bearing right (Fortune St. will “Y” into Ashley St.—stay right); Holiday Inn is on the right side of the street.

Future Meetings?

Between now and September of 2001, we will conduct additional seminars at locations around the country. Locations for the meetings will be selected based on the history of past, present and especially future pipeline projects where interstate natural gas markets are developing or expanding.

Areas we are considering for meetings include:

Boston, Massachusetts/Portland, Maine Area.—March/April, 2001

Seattle/Puget Sound Washington—May/June, 2001 and/or

Reno, Nevada or Salt Lake City, Utah—July/August, 2001

If you care to voice your opinion about these or other areas, please follow the instructions for contacting us in the notice.

[FR Doc. 01-1420 Filed 1-17-01; 8:45 am]

BILLING CODE 6717-01-M